DEPARTMENT OF HEALTH AND HUMAN SERVICES

Administration for Children and Families

Submission for Office of Management and Budget Review; Child Support Annual Data Report and Instructions (OCSS-157) (Office of Management and Budget #: 0970-0177)

AGENCY: Office of Child Support Services; Administration for Children and Families; U.S. Department of Health and Human Services.

ACTION: Request for public comments.

SUMMARY: The Administration for Children and Families (ACF), Office of Child Support Services (OCSS), is requesting the Office of Management and Budget (OMB) to approve the Child Support Annual Data Report and Instructions (OCSS-157), with minor revisions, for an additional three years. The current OMB approval expires on March 31, 2025.

DATES: Comments due February 20, 2025. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION: Description: States must annually provide OCSS with their child support information pertaining to case inventory, performance status, and accomplishments in the following areas: paternity establishment; services requested and provided; medical support; collections due and distributed; staff; program expenditures; non-cooperation and good cause; and administrative enforcement. The information collected from the OCSS-157 allows OCSS to (1) report child support activities to Congress as required by law; (2) calculate States' incentive measures for performance and assess performance indicators used in the program; and (3) help OCSS monitor and evaluate State child support programs.

OCSS made minor revisions to the instructions and report to make them easier for the respondents to understand and complete. Additionally, OCSS updated the name of the federal child support office from the Office of Child Support Enforcement (OCSE) to the Office of Child Support Services (OCSS).

Respondents: State Child Support Agencies.

Annual Burden Estimates
Information collection instrument | Total number of annual respondents | Number of annual responses per respondent | Average annual burden hour per response | Annual burden hours
OCSS Annual Report and Instructions (OCSS-157) | 54 | 1 | 7 | 378

Authority: 42 U.S.C. 652(a) and (g) and 669.

Mary C. Jones,
ACF/OPRE Certifying Officer.

[FR Doc. 2025-01245 Filed 1-17-25; 8:45 am]

BILLING CODE 4184-41-P